ENVIRONMENTAL PROTECTION AGENCY

[EPA-HQ-OAR-2004-0065; FR-9905-53-OAR]

Proposed Information Collection Request; Comment Request; Application Requirements for the Approval and Delegation of Federal Air Toxics Programs to State, Territorial, Local, and Tribal Agencies; EPA ICR No. 1643.08, OMB Control No. 2060-0264

AGENCY: Environmental Protection Agency (EPA).

ACTION: Notice.

SUMMARY: The Environmental Protection Agency is planning to submit an information collection request (ICR), “Proposed Information Collection Request; Comment Request; Application Requirements for the Approval and Delegation of Federal Air Toxics Programs to State, Territorial, Local, and Tribal Agencies” (EPA ICR No. 1643.08, OMB Control No. 2060-0264) to the Office of Management and Budget (OMB) for review and approval in accordance with the Paperwork Reduction Act (44 U.S.C. 3501 et seq.). Before doing so, EPA is soliciting public comments on specific aspects of the proposed information collection as described below. This is a proposed extension of the ICR, which is currently approved through April 30, 2014. An Agency may not conduct or sponsor and a person is not required to respond to a collection of information unless it displays a currently valid OMB control number.

DATES: Comments must be submitted on or before March 17, 2014.

ADDRESSES: Submit your comments, referencing Docket ID No. EPA-HQ-OAR-2004-0065, online using www.regulations.gov (our preferred method), by email to a-and-r-docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Paula Hirtz, OAQPS/SPPD, E143-01, Environmental Protection Agency, RTP, NC 27711; telephone number: 919-541-2618; fax number: 919-541-0246; email address: hirtz.paula@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This information collection is an application from State, local, or tribal agencies (S/L/Ts) for delegation of regulations developed under section 112 of the Clean Air Act. The five options for delegation are straight delegation, rule adjustment, rule substitution, equivalency by permit, or state program approval. The information is needed and used to determine if the entity submitting an application has met the criteria established in 40 CFR part 63 subpart E. This information is necessary for the EPA Administrator to determine the acceptability of approving S/L/T's rules, requirements, or programs in lieu of the Federal section 112 rules or programs. The collection of information is authorized under 42 U.S.C. 7401-7671q.

Form Numbers: None.

Respondents/affected entities: Entities potentially affected by this action are S/L/Ts participating in this voluntary program. These government establishments are classified as Air and Water Resource and Solid Waste Management Programs under Standard Industrial Classification (SIC) code 9511 and North American Industry Classification System (NAICS) code 92411. No industries under any SIC or NAICS codes will be included among respondents.

Respondent's obligation to respond: Voluntary.

Estimated number of respondents: 119 S/L/Ts for maximum achievable control technology standards and 95 S/L/Ts for area source standards per year.

Frequency of response: One time per delegation request.

Total estimated burden: 29,489 hours (per year). Burden is defined at 5 CFR 1320.03(b).

Total estimated cost: About $1,502,300. This includes an estimated labor burden cost of $1,500,000 and an estimated cost of $2,300 for operation and maintenance costs resulting from photocopying and postage expenses.

Changes in Estimates: Preliminary results indicate a decrease of 7,618 hours in the total estimated respondent burden compared with the ICR currently approved by OMB. This decrease is due to: (1) A decrease in the number of MACT standard promulgations compared to last period, (2) a decrease in the number of area source standard promulgations compared to last period and (3) a decrease in the number of S/L/Ts taking area source delegation compared to last period. We are still in the process of reviewing the key assumptions in the ICR that will affect the overall burden estimate. These include the number of delegation activities expected to occur during the upcoming collection period, the delegation options most likely to be used by the delegated S/L/Ts, and the burden associated with each of the options. Depending on the outcome of this review, there could be changes in the overall burden estimates.

Dated: January 9, 2014.
Kevin Culligan,
Acting Director, Sector Policies and Program Division.

[FR Doc. 2014-00748 Filed 1-15-14; 8:45 am]

BILLING CODE 6560-50-P